RAILROAD RETIREMENT BOARD

20 CFR Part 320

RIN 32207-AB58

Electronic Filing of Reconsideration Requests by Railroad Employers

AGENCY: Railroad Retirement Board.

ACTION: Final rule.

SUMMARY: The Railroad Retirement Board (Board) amends its regulations to include the option of electronic filing by railroad employers of requests for reconsideration of initial decisions under the Railroad Unemployment Insurance Act (RUIA). Part 320 currently requires that reconsideration requests be submitted in writing. The amended rule allows reconsideration requests to be made by railroad employers either in writing or electronically. In addition, § 320.10(c) and 320.10(d) inadvertently contain inaccurate references. This amended rule corrects those references.

DATES: Effective Date: This regulation will be effective September 8, 2006.

ADDRESSES: Beatrice Ezerski, Secretary to the Board, Railroad Retirement Board, 844 Rush Street, Chicago, Illinois 60611.

FOR FURTHER INFORMATION CONTACT: Marguerite P. Dadabo, Assistant General Counsel, Railroad Retirement Board, 844 Rush Street, Chicago, Illinois 60611, (312) 751-4945, TDD (312) 754-4701.

SUPPLEMENTARY INFORMATION: Part 320 of the Board's regulations deals generally with administrative review of initial determinations of claims or requests for waiver of recovery of overpayments under the Railroad Unemployment Insurance Act (RUIA). Currently, the regulations require all requests for reconsideration of initial decisions to be made in writing. The Railroad Retirement Board amends its regulations to allow railroad employers to use updated technology, such as computers and e-mail, to request reconsideration of an initial decision. Specifically, the Board amends section 320.10(a) to allow railroad employers to file requests for reconsideration under the RUIA via an electronic program that has been approved by the agency.

In addition, the Railroad Retirement Board amends section 320.10(c) to change the incorrect reference of “§ 310.12” to the correct references of “§ 320.12” in the last two sentences of this section.

Section 320.10(d) is amended to change the incorrect references of “§ 310.5” to the correct reference of “§ 320.5” in the first sentence of this section. This section is also amended to provide that a railroad employer's request for reconsideration can be made in writing or electronically.

The Board published the proposed rule on July 25, 2005 (70 FR 42517) and invited comments by September 23, 2005. No comments were received. Accordingly, the proposed rule is being published as a final rule without change.

Collection of Information Requirements

There is an information collection impacted by the amended rule:

The Railroad Retirement Board is providing notice that OMB has approved the information collection requirements contained in the affected sections of these final rules. The OMB Control Number for this collection is 3220-0171, expiring June 30, 2008.

The Board, with the concurrence of the Office of Management and Budget (OMB), has determined that this is not a significant regulatory action under Executive Order 12866. Therefore, no regulatory impact analysis is required.

List of Subjects in 20 CFR Part 320

Administrative practice and procedure, Claims, Railroad unemployment insurance, Reporting and recordkeeping requirements.

For the reasons set out in the preamble, the Railroad Retirement Board amends title 20, Chapter II, subchapter C, part 320 of the Code of Federal Regulations as follows:

PART 320-INITIAL DETERMINATIONS UNDER THE RAILROAD UNEMPLOYMENT INSURANCE ACT AND REVIEWS OF AND APPEALS FROM SUCH DETERMINATIONS

1. The authority citation for part 320 continues to read as follows:

Authority: 45 U.S.C. 355 and 362(1).

2. Section 320.10 is amended as follows:

a. Add a new sentence at the end of paragraph (a);

b. Amend paragraph (c) by removing the reference to “§ 310.12” and adding a reference to “§ 320.12” in its place wherever it appears; and

c. Revise paragraph (d).

The addition and revision read as follows:

§ 320.10 Reconsideration of initial determination.

(a) * * * A railroad employer may fulfill the written request requirement by using an electronic system that has been approved by the agency in the manner prescribed by the agency.

* * * * *

(d) Right to further review of initial determination. The right to further review of a determination made under § 320.5 or § 320.9 of this part shall be forfeited unless a written request for reconsideration is filed within the time period prescribed in this section or good cause is shown by the party requesting reconsideration for failing to file a timely request for reconsideration. A railroad employer may fulfill the written request requirement by using an electronic system approved by the agency in the manner prescribed by the agency.

* * * * *

Dated: September 5, 2006.
By Authority of the Board.
Beatrice Ezerski,
Secretary to the Board.

[FR Doc. E6-14883 Filed 9-7-06; 8:45 am]

BILLING CODE 7905-01-P